DEPARTMENT OF TRANSPORTATION

Federal Highway Administration

Environmental Impact Statement: Bexar County, TX

AGENCY: Federal Highway Administration (FHWA), DOT.

ACTION: Amended notice of intent.

SUMMARY: The Federal Highway Administration (FHWA), Texas Department of Transportation (TxDOT) and Alamo Regional Mobility Authority (Alamo RMA) issued a notice of intent to advise the public that an Environmental Impact Statement (EIS) would be prepared for proposed improvements to Loop 1604 in San Antonio, Texas, within Bexar County limits to enhance mobility and improve safety from FM 1957 to IH 35 North, a distance of approximately 32.35 miles in Bexar County Texas. FHWA, TxDOT and Alamo RMA are issuing this amended notice of intent to advise the public of changes to the aforementioned EIS for proposed Loop 1604 improvements. Specifically, the southwestern limit of the proposed improvements is changing from FM 1957 to U.S. Highway 90 for a total distance of approximately 37 miles. The change to the limits of the proposed improvements is consistent with the updated San Antonio-Bexar County Metropolitan Planning Organization Mobility 2035 Plan (December 2009) and in response to comments received during the first scoping meetings held in October 2009.

FOR FURTHER INFORMATION CONTACT: Mr. Salvador Deocampo, District Engineer, District A, Federal Highway Administration, Texas Division, 300 East 8th Street, Room 826, Austin, Texas, 78701. Phone: 512-536-5950

SUPPLEMENTARY INFORMATION: FHWA in cooperation with TxDOT and the Alamo RMA issued a Notice of Intent on July 31, 2009, advising the public that they would be preparing an EIS for transportation improvements to Loop 1604 from FM 1957 to IH 35 North, a distance of approximately 32.35 miles. Since then, FHWA, TxDOT and the Alamo RMA approved the Draft Project Coordination Plan, the Draft Need and Purpose, convened two meetings with a Community Advisory Group, held a meeting with Participating and Cooperating Agencies and held a series of Public Scoping meetings. Based on public input and studies conducted to date, FHWA, TxDOT and Alamo RMA now propose to include an additional segment from FM 1957 to U.S. 90 in the EIS so that the limits of the proposed improvements would be from U.S. 90 to IH 35 North, a total distance of approximately 37 miles. The additional segment between FM 1957 and U.S. 90 is described in the San Antonio-Bexar County Metropolitan Planning Organization's Mobility 2035 Plan (adopted December 7, 2009) as added capacity improvements consisting of expanding the existing facility to a four lane expressway with four toll mainlanes and four non-toll outer lanes. The need for improvements within the additional segment relate to compromised safety, decreased mobility, and operational deficiencies attributed to substantial growth in traffic. The purpose of adding the proposed segment is to address these needs by upgrading the existing roadway to current design standards to improve safety, enhance mobility and improve operational efficiency.

Anticipated Federal permits, pending selection of alternatives and field surveys may include, but are not limited to, the following: Section 401/404 (Clean Water Act), and Section 7 (Endangered Species Act). The Draft Project Coordination Plan will be updated in accordance with Public Law 109-59, Safe, Accountable, Flexible, Efficient Transportation Equity Act: A Legacy for Users (SAFETEA-LU), Title VI, section 6002, Efficient Environmental Reviews for Project Decision Making, August 10, 2005, to reflect the change in project limits. The Project Coordination Plan will continue to promote early and continuous involvement from stakeholders, agencies, and the public as well as describe the proposed project, the roles of the agencies and the public, the project need and purpose, schedule, level of detail for alternatives analysis, methodologies to be used in the environmental analysis, and the proposed process for coordination and communication.

The Revised Project Coordination Plan will be available for public review, input, and comments at public meetings, including scoping meetings and hearings held in accordance with the National Environmental Policy Act (NEPA) through the evaluation process, and upon request at the Alamo RMA's office. Pursuant to section 6002 of SAFETEA-LU, cooperating agencies, participating agencies, and the public will be given an opportunity for input in the development of the project. The second series of public scoping meetings, conducted in an open house format, is planned to be held in April of 2010.

Issued on: April 7, 2010.
Salvador Deocampo,
District Engineer, Austin, Texas.

[FR Doc. 2010-8439 Filed 4-12-10; 8:45 am]

BILLING CODE 4910-RY-P